DEPARTMENT OF HEALTH AND HUMAN SERVICES

Centers for Medicare & Medicaid Services

42 CFR Part 417

Health Maintenance Organizations, Competitive Medical Plans, and Health Care Prepayment Plans

CFR Correction

In title 42 of the Code of Federal Regulations, parts 414 to 429, revised as of October 1, 2007, on page 127, in § 417.150, remove the definition of “Health benefits”.

[FR Doc. E8-21926 Filed 9-17-08; 8:45 am]

BILLING CODE 1505-01-D